DEPARTMENT OF HOUSING AND URBAN DEVELOPMENT

[Docket No. FR-4820-N-07]

Notice of Proposed Information Collection: Comment Request; Housing Counseling Program—Automated Client Management Date System

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: May 19, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410, or Wayne_Eddins@hud.gov.

FOR FURTHER INFORMATION CONTACT: Margaret E. Burns, Deputy Director, Office of Single Family Program Development, Department of Housing and Urban Development, 451 7th Street SW., Washington, DC 20410, telephone (202) 708-0317, (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Housing Counseling Program—Automated Client Management Data System.

OMB Control Number, if applicable: 2502-0261.

Description of the need for the information and proposed use. Section 106 of the Housing and Community Development Act of 1974 authorizes HUD to contract with organizations to provide counseling to tenants and homeowners to assist them in improving their housing conditions and in meeting the responsibilities of tenancy and homeownership. Counseling agencies are required to submit their qualifications to provide such services. HUD-approved agencies can compete for program funds. Grantees are required to submit performance data to enable HUD to evaluate the effectiveness of the program. This new automated web-based system provides a standard electronic took to record counseling information for automatic input into the HUD-9902 reporting instrument and other necessary reports. The only reporting instrument affected by this submission is the form HUD-9902. Forms HUD-9900 and HUD-9908 are not affected.

Agency form numbers, if applicable: HUD-9900, HUD-9902, HUD-9908.

Estimation of the total numbers of hours needed to prepare the information collection including number of respondents, frequency of response, and hours response: The estimated total number of hours needed to prepare the information collection is 2,800; the number of respondents is 7,275 generating approximately 7,275 annual responses; the frequency of response is on occasion and annually; and the estimated time needed to prepare the response varies from 10 minutes to 8 hours.

Status of the proposed information collection: Revision of currently approved collection.

Authority: The Paperwork Reduction Act of 1995, 44 U.S.C., Chapter 35, as amended.

Dated: March 12, 2003.
Sean G. Cassidy,
General Deputy Assistant Secretary for Housing-Deputy Federal Housing Commissioner.

[FR Doc. 03-6608 Filed 3-18-03; 8:45 am]

BILLING CODE 4210-27-M